BUREAU OF CONSUMER FINANCIAL PROTECTION

[Docket No. CFPB-2016-0026]

RIN 3170-AA40

Request for Information on Payday Loans, Vehicle Title Loans, Installment Loans, and Open-End Lines of Credit

Correction

In notice document 2016-13492, appearing on pages 47781 through 47789 in the issue of Friday, July 22, 2016, make the following correction:

On page 47781, in the second column, on the sixth line, “October 14, 2016” should read “November 7, 2016”.

[FR Doc. C1-2016-13492 Filed 7-27-16; 8:45 am]

BILLING CODE 1505-01-D